DEPARTMENT OF ENERGY

Federal Energy Regulatory Commission

[Project No. 12737-002]

Jordan Limited Partnership; Notice of Intent To Prepare an Environmental Assessment and Notice of Scoping Meetings and Site Visit and Soliciting Scoping Comments

December 18, 2009.

Take notice that the following hydroelectric application has been filed with the Commission and is available for public inspection.

a. Type of Application: New License.

b. Project No.: 12737-002.

c. Date Filed: April 16, 2009.

d. Applicant: Jordan Limited Partnership.

e. Name of Project: Gathright Hydroelectric Project.

f. Location: On Jackson River in Alleghany County, Virginia.

g. Filed Pursuant to: Federal Power Act 16 U.S.C. 791 (a)-825(r).

h. Applicant Contact: Mr. James B. Price, W.V. Hydro, Inc., P.O. Box 903, Gatlinburg, Tennessee 37738 (865) 436-0402.

i. FERC Contact: Jeffrey Browning, (202) 502-8677 or jeffrey.browning@ferc.gov.

j. Deadline for filing scoping comments: February 22, 2010.

All documents (original and eight copies) should be filed with: Kimberly D. Bose, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site at http://www.ferc.gov under the “e-Filing” link.

k. This application is not ready for environmental analysis at this time.

l. Project Description: Gathright Dam, which creates Lake Moomaw, is located on the Jackson River, 43.4 miles upstream of its confluence with the Cowpasture River to form the James River. Lake Moomaw extends upstream more than 12 miles from the dam. The dam is located in Alleghany County, Virginia with most of Lake Moomaw in Bath County.

The existing Corps facilities consist of: (1) The 257-foot-high, 1,172-foot-long rock-fill Gathright Dam with an impervious core and a top width of 32 feet; (2) an outlet works comprised of an intake tower with 10 water quality intake gates, outlet tunnel, stilling basin and outlet channel; (3) an emergency spillway located 2.4 miles south of the dam comprised of an ungated and unpaved trapezoidal channel 2,680 feet long and 100 feet wide at its crest; and (4) the 2,530-acre Lake Moomaw at a normal conservation pool water surface elevation of 1,582.0 ¹ feet.

¹ All elevations are referenced to NGVD 1,929 (National Geodetic Vertical Datum).

The proposed project would utilize the head created by the existing dam and consist of: (1) A new, 155-foot-high, 16-foot-wide, 10-foot deep intake module attached to the intake tower upstream of the south tunnel passageway trashrack; (2) one new 3.7-megawatt (MW) generating unit attached to the top of the intake module; (3) one new Francis turbine and draft tube at the bottom of the intake module; (4) a new 0.94-mile-long, 46-kilovolt transmission line; and (5) appurtenant facilities. The impoundment would provide an estimated average head of 140 feet for power generation purposes. The estimated average annual generation would be 17,500 megawatt hours.

m. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659. A copy is also available for inspection and reproduction by contacting the applicant using the contact information in item (h) above.

You may also register online at http://www.ferc.gov/esubscribenow.htm to be notified via e-mail of new filings and issuances related to this or other pending projects. For assistance, contact FERC Online Support.

n. Scoping Process: The Commission intends to prepare a single environmental assessment (EA) for the project in accordance with the National Environmental Policy Act. The EA will consider both site-specific and cumulative environmental impacts and reasonable alternatives to the proposed action.

Scoping Meetings

Commission staff will hold two scoping meetings in the vicinity of the project at the time and place noted below. The daytime meeting will focus on resource agency, Indian tribes, and non-governmental organization concerns, while the evening meeting is primarily for receiving input from the public. We invite all interested individuals, organizations, and agencies to attend one or both of these meetings and to assist staff in determining the scope of the environmental issues to be address in the environmental assessment. The times and locations of these meetings are as follows:

Daytime Scoping Meeting

Date: January 20, 2010.

Time: 1 p.m. (EST).

Place: Covington Public Library.

Address: Covington Public Library, 406 W Riverside Street, Covington, VA 24426.

Evening Scoping Meeting

Date: January 21, 2010.

Time: 6 p.m. (EST).

Place: Covington Public Library.

Address: Covington Public Library, 406 W Riverside Street, Covington, VA 24426.

The scoping document, which outlines the subject areas to be addressed in the environmental assessment, was mailed to the individuals and entities on the Commission's mailing list. Copies of the scoping document will be available at the scoping meetings or may be viewed on the Web at http://www.ferc.gov using the “eLibrary” link (see item m above). Based on all oral and written comments, a revised scoping document may be issued.

Site Visit

We will hold a site visit to the project on Thursday, January 21, 2010, beginning at 10 a.m. (EST). To attend the site visit, meet at the U.S. Army Corps of Engineer's office at Gathright Dam. All participants are responsible for their own transportation and lunch. Anyone with questions about the site visit (or for directions) should contact James B. Price (865) 436-0402. Those individuals planning to participate in the site visit should notify Mr. Price of their intent, no later than January 18, 2010.

Note that Commission staff may hold a site visit and/or meeting at the project at a later date to discuss any project-related effects to archaeological, historic, or traditional cultural properties.

Meeting Objectives

At the scoping meetings, staff will: (1) Summarize the environmental issues tentatively identified for analysis in the EA; (2) solicit from meeting participants all available information, especially quantifiable data, on the resources at issues; (3) encourage statements from experts and the public on issues that should be analyzed in the EA, including viewpoints in opposition to, or in support of, the staff's preliminary views; (4) determine the resource issues to be addressed in the EA; and (5) identify those issues that require a detailed analysis, as well as those issues that do not require a detailed analysis.

Meeting Procedures

Scoping meetings will be recorded by a stenographer and will become part of the Commission's formal record for this proceeding.

Individuals, organizations, and agencies with environmental expertise and concerns are encouraged to attend the meetings and to assist staff in defining and clarifying the issues to be addressed in the EA.

Kimberly D. Bose,
Secretary.

[FR Doc. E9-30811 Filed 12-28-09; 8:45 am]

BILLING CODE 6717-01-P